DEPARTMENT OF TRANSPORTATION

Federal Motor Carrier Safety Administration

[Docket No. FMCSA-2000-8033]

Notice of Request for Comments on Renewing the Approval for an Information Collection: Motor Carrier Safety Assistance Program

AGENCY: Federal Motor Carrier Safety Administration (FMCSA), DOT.

ACTION: Notice and request for comments.

SUMMARY: This action informs the public that FMCSA intends to request the Office of Management and Budget (OMB) to renew approval for the information collection required by the Motor Carrier Safety Assistance Program. That information consists of grant application preparation, quarterly reports, and electronic data documenting the results of driver/vehicle inspections performed by the states. This notice is required by the Paperwork Reduction Act.

DATES: You must submit comments by January 2, 2001.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: James D. McCauley, (202) 366-0133, Office of Safety Programs, Federal Motor Carrier Safety Administration, Department of Transportation, 400 Seventh Street, SW., Washington, DC, 20590. Office hours are from 7:30 a.m. to 4 p.m., e.t., Monday through Friday, except Federal holidays.

SUPPLEMENTARY INFORMATION: Title: Motor Carrier Safety Assistance Program.

OMB Number: 2126-0010.

Background: Sections 401-404 of the Surface Transportation Assistance Act of 1982 (STAA) established a program of financial assistance to states for the purpose of implementing programs to enforce (a) Federal rules, regulations, standards, and orders applicable to commercial motor vehicle safety; and (b) compatible state rules, regulations, standards, and orders. This grant-in-aid program is known as the Motor Carrier Safety Assistance Program (MCSAP). The Intermodal Surface Transportation Efficiency Act of 1991 (ISTEA) added programs, such as drug interdiction, traffic enforcement, and size and weight activities to the core program established by the STAA.

The Transportation Equity Act for the 21st Century (TEA-21) further revised the MCSAP by broadening its purpose beyond enforcement activities and programs by requiring participating states to assume greater responsibility for improving motor carrier safety. The TEA-21 required states to develop performance-based plans reflecting national priorities and performance goals, revised the MCSAP funding distribution formula, and created a new incentive funding program. As a result, States are given greater flexibility in designing programs to address national and State goals for reducing the number and severity of commercial motor vehicle (CMV) accidents. The implementing regulations were published in a final rule in the March 21, 2000, Federal Register at 65 FR 15092.

In order to qualify for a grant, participating states must submit a Commercial Vehicle Safety Plan (CVSP). After the grant is awarded, states must submit inspection data and quarterly reports explaining work activities and accomplishments. The FMCSA monitors and evaluates a state's progress under its approved CVSP. The agency also determines whether a change in the state's level of effort is required to meet the intended objectives of the CVSP. If a state fails to operate within the guidelines of the approved CVSP or does not remedy any identified deficiencies or incompatibilities in a timely manner, the FMCSA may cease participation in that state's CVSP. This information collection provides the basis for these responsibilities and decisions.

The quarterly report and inspection data are collected electronically. States continue to submit the CVSP in hard copy. The estimated annual burden for this collection has been significantly reduced due to increased use of information technology.

Respondents: State and local MCSAP lead agencies.

Estimated Total Annual Burden: Grant application preparation: 832 hours; quarterly report preparation: 333 hours; inspection data upload: 6,667 hours. The above figures reflect 20 percent of the total estimated hours to perform the activities listed since MCSAP reimburses up to 80 percent of the eligible costs incurred in the administration of an approved plan as set forth in 49 CFR 350.303, 350.309 and 350.311.

Public Comments Invited: We invite you to comment on any aspect of this information collection, including, but not limited to (1) whether the collection of information is necessary for the proper performance of the functions of the FMCSA, including whether the information has practical utility; (2) the accuracy of the estimated burden; (3) ways to enhance the quality, utility, and clarity of the collected information; and (4) ways to minimize the collection burden without reducing the quality of the information collected.

Electronic Access and Filing: You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may be downloaded by using a computer, modem and suitable communications software from the Government Printing Office's Electronic Bulletin Board Service at (202) 512-1661. Internet users may reach the Office of the Federal Register's home page at http://www.nara.gov/fedreg and the Government Printing Offices's web page at http://www.access.gpo.gov/nara.

Authority: The Paperwork Reduction Act of 1995, 44 U.S.C. Chapter 35, as amended; and 49 CFR 1.73.

Issued on: October 17, 2000.
Clyde J. Hart, Jr.,
Acting Deputy Administrator.

[FR Doc. 00-27974 Filed 10-31-00; 8:45 am]

BILLING CODE 4910-EX-P